DEPARTMENT OF COMMERCE

International Trade Administration

[A-893-002, A-487-001, A-546-001, A-533-919, A-475-845, A-803-001, A-201-859, A-565-804, A-455-807, A-856-002, A-469-826, A-583-873]

Mattresses From Bosnia and Herzegovina, Bulgaria, Burma, India, Italy, Kosovo, Mexico, the Philippines, Poland, Slovenia, Spain, and Taiwan: Postponement of Preliminary Determinations in the Less-Than-Fair-Value Investigations

AGENCY: Enforcement and Compliance, International Trade Administration, Department of Commerce.

DATES: Applicable October 23, 2023.

FOR FURTHER INFORMATION CONTACT: Amaris Wade (Bosnia and Herzegovina) at (202) 482-6334; TJ Worthington (Bulgaria) at (202) 482-4567; Ajay Menon (Burma) at (202) 482-0208; Steven Seifert (India) at (202) 482-3350; Caroline Carroll (Italy) at (202) 482-4948; Sean Carey (Kosovo) at (202) 482-3964; Benjamin Blythe (Mexico) at (202) 482-3457; Emily Halle (the Philippines) at (202) 482-0176; Dakota Potts (Poland) at (202) 482-0223; Andrew Hart (Slovenia) at (202) 482-1058; Matthew Palmer (Spain) at (202) 482-1678; and Terre Keaton (Taiwan) at (202) 482-1280, AD/CVD Operations, Enforcement and Compliance, International Trade Administration, U.S. Department of Commerce, 1401 Constitution Avenue NW, Washington, DC 20230.

SUPPLEMENTARY INFORMATION:

Background

On August 17, 2023, the U.S. Department of Commerce (Commerce) initiated less-than-fair-value (LTFV) investigations of imports of Mattresses from Bosnia and Herzegovina, Bulgaria, Burma, India, Italy, Kosovo, Mexico, the Philippines, Poland, Slovenia, Spain, and Taiwan.¹ Currently, the preliminary determinations are due no later than January 4, 2024.

¹ See Mattresses from Bosnia and Herzegovina, Bulgaria, Burma, India, Italy, Kosovo, Mexico, the Philippines, Poland, Slovenia, Spain, and Taiwan: Initiation of Less-Than-Fair-Value Investigations, 88 FR 57433 (August 23, 2023) (Initiation Notice).

Postponement of Preliminary Determinations

Section 733(b)(1)(A) of the Tariff Act of 1930, as amended (the Act), requires Commerce to issue the preliminary determination in an LTFV investigation within 140 days after the date on which Commerce initiated the investigation. However, section 733(c)(1)(A)(b)(1) of the Act permits Commerce to postpone the preliminary determination until no later than 190 days after the date on which Commerce initiated the investigation if: (A) the petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On October 5, 2023, the petitioners ² submitted a timely request that Commerce postpone the preliminary determinations in the LTFV investigations of mattresses from Bosnia and Herzegovina, Bulgaria, Burma, India, Italy, Kosovo, Mexico, the Philippines, Poland, Slovenia, Spain, and Taiwan.³ The petitioners stated that they request postponement given the complexity of the investigations, the extensions of time Commerce granted to respondents, and the recent selection of additional respondents, to allow the petitioners adequate time to comment on responses and Commerce adequate time to issue supplemental questionnaires and conduct a thorough analysis in these investigations.⁴

² The petitioners are Brooklyn Bedding LLC; Carpenter Company; Corsicana Mattress Company; Future Foam, Inc.; FXI, Inc.; Kolcraft Enterprises Inc.; Leggett & Platt, Incorporated; Serta Simmons Bedding Inc.; Southerland Inc.; Tempur Sealy International, Inc.; the International Brotherhood of Teamsters; and United Steel, Paper and Forestry, Rubber, Manufacturing, Energy, Allied Industrial and Service Workers International Union, AFL-CIO (collectively, the petitioners).

³ See Petitioners' Letter, “Mattresses from Bosnia and Herzegovina, Bulgaria, Burma, India, Italy, Kosovo, Mexico, Philippines, Poland, Slovenia, Spain, and Taiwan: Request to Extend Preliminary Results for Antidumping Duty Investigations,” dated October 5, 2023.

⁴ Id.

For the reasons stated above and because there are no compelling reasons to deny the request, Commerce, in accordance with section 733(c)(1)(A) of the Act, is postponing the deadline for the preliminary determinations by 50 days (i.e., 190 days after the date on which these investigations were initiated). As a result, Commerce will issue its preliminary determinations no later than February 23, 2024. In accordance with section 735(a)(1) of the Act and 19 CFR 351.210(b)(1), the deadline for the final determinations of these investigations will continue to be 75 days after the date of the preliminary determinations, unless postponed at a later date.

This notice is issued and published pursuant to section 733(c)(2) of the Act and 19 CFR 351.205(f)(1).

Dated: October 17, 2023.
Abdelali Elouaradia,
Deputy Assistant Secretary for Enforcement and Compliance.

[FR Doc. 2023-23358 Filed 10-20-23; 8:45 am]

BILLING CODE 3510-DS-P